DEPARTMENT OF JUSTICE

Bureau of Prisons

[AAG/A Order No. 001-2006]

Privacy Act of 1974; Modification to System of Records

Pursuant to the Privacy Act of 1974 (5 U.S.C. 552a), notice is given that the Federal Bureau of Prisons (BOP) is making a minor modification to its system of records notice entitled “Telephone Activity Record System, JUSTICE/BOP-011”. This system notice was last published on April 8, 2002 (67 FR 16762).

The BOP is revising the system's provision for “Retention and Disposal” to include retention and disposal of digital recordings. This minor change does not require an opportunity for public comment or notification of Congress and the Office of Management and Budget. The modification will be effective on the date of publication in the Federal Register.

The language of the minor modification is provided below.

February 15, 2006.
Michael H. Allen,
Acting Assistant Attorney General for Administration.

JUSTICE/BOP-011

SYSTEM NAME:

Telephone Activity Record System.

* * * * *

RETENTION AND DISPOSAL:

With the exception of audiotapes and digital recordings, automated records in this system are maintained on magnetic medium ordinarily for six years from the date created, at which time they will be overwritten with new data. Paper documents are maintained for a period of 30 years from expiration of sentence of the inmate, at which time they are destroyed by shredding. Audiotapes and digital recordings are maintained ordinarily for six months from the date created, at which time they are overwritten with new data.

* * * * *

[FR Doc. E6-2678 Filed 2-23-06; 8:45 am]

BILLING CODE 4410-05-P